DEPARTMENT OF DEFENSE

Department of the Navy

Meeting of the Board of Advisors (BOA) to the President of the Naval Postgraduate School (NPS) Subcommittee

AGENCY: Department of the Navy, DoD.

ACTION: Notice.

SUMMARY: The Department of Defense (DoD) is publishing this notice to announce that the following Federal Advisory Committee meeting of the President of the Naval Postgraduate School Subcommittee Board of Advisors will be held. This meeting will be open to the public.

DATES: The meeting will be held on Wednesday, April 24, 2019 from 8:00 a.m. to 4:30 p.m. and on Thursday, April 25, 2019 from 7:30 a.m. to 11:30 a.m. Pacific Time Zone.

ADDRESSES: The meeting will be held at the Naval Postgraduate School, Executive Briefing Center, Herrmann Hall, 1 University Circle, Monterey, CA.

FOR FURTHER INFORMATION CONTACT: Ms. Jaye Panza, Designated Federal Official, 1 University Circle, Code 00H, Monterey, CA 93943-5001, telephone number 831-656-2514.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. The purpose of the Board is to advise and assist the President, NPS, in educational and support areas, providing independent advice and recommendations on items such as, but not limited to, organizational management, curricula, methods of instruction, facilities, and other matters of interest.

The agenda for Wednesday is as follows:

8:00 a.m.-8:15 a.m.: Call to Order, Chairman Instructions

8:15 a.m.-8:45 a.m.: Annual Ethics Brief

8:45 a.m.-9:45 a.m.: NPS President's Update

9:45 a.m.-10:00 a.m.: Break

10:00 a.m.-10:45 a.m.: NPS Provost's Update

10:45 a.m.-11:45 a.m.: Roundtable Discussion

11:45 a.m.-1:15 p.m.: Meet with NPS Students

1:15 p.m.-1:30 p.m.: Break

1:30 p.m.-2:30 p.m.: NPS Foundation

2:30 p.m.-4:30 p.m.: Board Discussion

The agenda for Thursday is as follows:

7:30 a.m.-8:30 a.m.: Meet with NPS Faculty

8:30 a.m.-11:30 a.m.: Board Discussion

11:30 a.m.: Meeting Adjourned

Individuals without a DoD Government Common Access Card require an escort at the meeting location. The meeting is accessible to persons with disabilities. For access, information, reasonable accommodation requests, or to send written statements for consideration at the committee meeting contact Ms. Jaye Panza, Designated Federal Officer, Naval Postgraduate School, 1 University Circle, Monterey, CA 93943-5001 or by fax (831) 656-2337 by April 15, 2019.

(Authority: 5 U.S.C. 552b)

Dated: February 27, 2019.
M.S. Werner,
Commander, Judge Advocate General's Corps, U.S. Navy, Federal Register Liaison Officer.

[FR Doc. 2019-03787 Filed 3-1-19; 8:45 am]

BILLING CODE 3810-FF-P